DEPARTMENT OF ENERGY

Federal Energy Regulatory Commission

[Project No. 2736-046]

Idaho Power Company; Notice of Tribal Consultation Meeting

a. Project Name and Number: American Falls Hydroelectric Project No. 2736-046.

b. Applicant: Idaho Power Company.

c. Date and Time of Meeting: November 27, 2023, from 11:00 a.m. to 12:30 p.m. Eastern Standard Time.

d. FERC Contact: Golbahar Mirhosseini, Golbahar.Mirhosseini@ferc.gov.

e. Purpose of Meeting: Commission staff will hold a meeting with staff from the Shoshone-Bannock Tribes to discuss the Tribe's comments on scoping document and any concerns regarding the proposed American Falls Hydroelectric Project. The meeting will be held remotely via Microsoft Teams.

f. All local, State, and Federal agencies, Native American Tribes, and other interested parties are invited to attend the meeting; however, participation will be limited to representation of the Shoshone-Bannock Tribe and the Commission's representatives. A summary of the meeting will be placed in the public record of this proceeding.

g. Please email Golbahar Mirhosseini at golbahar.mirhosseini@ferc.gov by November 22, 2023 at 4:30 p.m. EST, to RSVP and to receive specific instructions on how to participate.

Dated: November 13, 2023.
Debbie-Anne A. Reese,
Deputy Secretary.

[FR Doc. 2023-25528 Filed 11-17-23; 8:45 am]

BILLING CODE 6717-01-P